ENVIRONMENTAL PROTECTION AGENCY

[EPA-HQ-OAR-2009-0491; FRL-9906-78-OAR]

Proposed Information Collection Request; Comment Request; Federal Implementation Plans To Reduce Interstate Transport of Fine Particulate Matter and Ozone (Renewal)

AGENCY: Environmental Protection Agency (EPA).

ACTION: Notice; correction.

SUMMARY: The Environmental Protection Agency published in the Federal Register of February 6, 2013, a notice for comment request for the renewal of the Information Collection Request for the Federal Implementation Plans to Reduce Interstate Transport of Fine Particulate Matter and Ozone. The notice referenced the incorrect Docket ID Number. This notice provides the correct Docket ID Number.

FOR FURTHER INFORMATION CONTACT: Karen VanSickle at (202) 343-9220 or email at vansickle.karen@epa.gov.

Correction: In the Federal Register of February 6, 2013, (79 FR 7179) in [FRL 9906-29-OAR], in the heading, correct the Docket ID Number to read: EPA-HQ-OAR-2009-0491.

Dated: February 10, 2014.
Karen Orehowsky,
Acting Director, Clean Air Markets Division.

[FR Doc. 2014-03326 Filed 2-13-14; 8:45 am]

BILLING CODE 6560-50-P